DEPARTMENT OF ENERGY

10 CFR Part 431

[Docket Number EERE-2013-BT-STD-0040]

RIN 1904-AC83

Energy Conservation Program: Energy Conservation Standards for Compressors; Extension of Comment Period

AGENCY: Office of Energy Efficiency and Renewable Energy, Department of Energy.

ACTION: Extension of public comment period.

SUMMARY: On May 19, 2016, the U.S. Department of Energy (DOE) published in the Federal Register a notice of proposed rulemaking (NOPR) for compressor energy conservation standards. This document announces an extension of the public comment period for submitting comments on the NOPR or any other aspect of the energy conservation standards rulemaking for compressors. The comment period is extended to August 17, 2016.

DATES: The comment period for the proposed rule published on May 19, 2016 (81 FR 31679), is extended. DOE will accept comments, data, and information regarding this rulemaking received no later than August 17, 2016.

ADDRESSES: Interested persons may submit comments, identified by docket number EERE-2013-BT-STD-0040 and/or Regulation Identifier Number (RIN) 1904-AC83, by any of the following methods:

• Federal eRulemaking Portal: www.regulations.gov. Follow the instructions for submitting comments.

• Email: AirCompressors2013STD0040@ee.doe.gov. Include the docket number EERE-2013-BT-STD-0040 and/or RIN 1904-AC83 in the subject line of the message.

• Mail: Ms. Brenda Edwards, U.S. Department of Energy, Building Technologies Program, Mailstop EE-5B, 1000 Independence Avenue SW., Washington, DC 20585-0121. If possible, please submit all items on a compact disc (CD), in which case it is not necessary to include printed copies. [Please note that comments and CDs sent by mail are often delayed and may be damaged by mail screening processes.]

• Hand Delivery/Courier: Ms. Brenda Edwards, U.S. Department of Energy, Building Technologies Program, 950 L'Enfant Plaza SW., Suite 600, Washington, DC 20024. Telephone (202) 586-2945. If possible, please submit all items on CD, in which case it is not necessary to include printed copies.

Docket: The docket is available for review at www.regulations.gov, including Federal Register notices, framework documents, public meeting attendee lists and transcripts, comments, and other supporting documents/materials. All documents in the docket are listed in the www.regulations.gov index. However, not all documents listed in the index may be publicly available, such as information that is exempt from public disclosure.

The rulemaking Web page can be found at: https://www1.eere.energy.gov/buildings/appliance_standards/product.aspx/productid/78. The Web page contains a link to the docket for this document on the www.regulations.gov site. The www.regulations.gov Web page contains instructions on how to access all documents in the docket, including public comments.

FOR FURTHER INFORMATION CONTACT: Mr. James Raba, U.S. Department of Energy, Office of Energy Efficiency and Renewable Energy, Building Technologies Office, EE-5B, 1000 Independence Avenue SW., Washington, DC 20585-0121. Telephone: (202) 586-8654. Email: Jim.Raba@ee.doe.gov.

For legal issues, please contact Mr. Peter Cochran, U.S. Department of Energy, Office of the General Counsel, GC-33, 1000 Independence Avenue SW., Washington, DC 20585-0121. Telephone: (202) 586-9496. Email: Peter.Cochran@hq.doe.gov.

SUPPLEMENTARY INFORMATION: On May 19, 2016, DOE published in the Federal Register a notice of proposed rulemaking (NOPR) for compressors. 81 FR 31679. The document provided for submitting written comments, data, and information by July 18, 2016. DOE has received a request from the Compressed Air & Gas Institute (CAGI), dated May 25, 2016, to provide additional time in which to submit comments pertaining to the rulemaking for compressors. This request can be found at: https://www.regulations.gov/#!documentDetail;D=EERE-2013-BT-STD-0040-0039. An extension of the comment period would allow additional time for CAGI and other interested parties to examine the data, information, and analysis presented in the compressors Technical Support Document (TSD), gather any additional data and information to address the proposed standards, and submit comments to DOE. The TSD can be found at: https://www.regulations.gov/#!documentDetail;D=EERE-2013-BT-STD-0040-0037. In view of the request from CAGI, DOE has determined that a 30-day extension of the public comment period is appropriate. The comment period is extended to August 17, 2016.

Issued in Washington, DC, on June 13, 2016.
Kathleen B. Hogan,
Deputy Assistant Secretary for Energy Efficiency, Energy Efficiency and Renewable Energy.

[FR Doc. 2016-14480 Filed 6-20-16; 8:45 am]

BILLING CODE 6450-01-P